DEPARTMENT OF HOMELAND SECURITY

National Protection and Programs Directorate; Submission for Review: CAPTAP Train the Trainer Survey 1670-NEW

AGENCY: National Protection and Programs Directorate, Infrastructure Protection, DHS.

ACTION: 60-Day Notice and request for comments.

SUMMARY: The Department of Homeland Security (DHS) invites the general public and other federal agencies the opportunity to comment on new information collection request 1670-NEW, CAPTAP Train the Trainer Survey. As required by the Paperwork Reduction Act of 1995, (Pub. L. 104-13, 44 U.S.C. chapter 35) as amended by the Clinger-Cohen Act (Pub. L. 104-106), DHS is soliciting comments for this collection.

DATES: Comments are encouraged and will be accepted until September 30, 2008. This process is conducted in accordance with 5 CFR 1320.1.

ADDRESSES: Interested persons are invited to submit written comments on the proposed information collection to Department of Homeland Security, National Protection and Programs Directorate, Infrastructure Protection, Infrastructure Information Collection Division, Attn: Veronica Heller, Team Lead, Planning and Policy Integration, Ballston One, 4601 N. Fairfax Dr., 5th Floor, Arlington, VA 22203.

FOR FURTHER INFORMATION CONTACT: Department of Homeland Security, National Protection and Programs Directorate, Infrastructure Protection, Infrastructure Information Collection Division, Attn: Veronica Heller, Team Lead, Planning and Policy Integration, Ballston One, 4601 N. Fairfax Dr., 5th Floor, Arlington, VA 22203.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Infrastructure Protection.

Title: CAPTAP Train the Trainer Survey.

OMB Number: 1670-NEW.

Frequency: Once.

Affected Public: Federal, State, Local, Tribal.

Number of Respondents: 150.

Estimated Time per Respondent: 12 minutes.

Total Burden Hours: 30 hours.

Total Burden Cost (capital/startup): None.

Total Burden Cost (operating/maintaining): None.

Description: The C/ACAMS program uses the CAPTAP Train the Trainer survey to assess participant satisfaction with the training. The survey supports data-based decision-making by identifying actionable training data to reallocate resources to address it. The Train the Trainer survey collects data about participants satisfaction with the instructors, materials, course curriculum, activities and applicability to effect cost savings by prioritizing training improvements.

Dated: July 25, 2008.
Matt Coose,
Acting Chief Information Officer, National Protection and Programs Directorate, Department of Homeland Security.

[FR Doc. E8-17644 Filed 7-31-08; 8:45 am]

BILLING CODE 4410-10-P